INTERNATIONAL TRADE COMMISSION

[Investigation Nos. 731-TA-1567-1569 (Final)]

Acrylonitrile-Butadiene Rubber (NBR) From France, Mexico, and South Korea: Determinations

On the basis of the record ¹ developed in the subject investigations, the United States International Trade Commission (“Commission”) determines, pursuant to the Tariff Act of 1930 (“the Act”), that an industry in the United States is not materially injured or threatened with material injury by reason of imports of acrylonitrile-butadiene rubber from France, Mexico, and South Korea, provided for in subheading 4002.59.00 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 87 FR 37825, 87 FR 37829, and 87 FR 37833, June 24, 2022.

Background

The Commission instituted these investigations effective June 30, 2021, following receipt of petitions filed with the Commission and Commerce by Zeon Chemicals L.P. and Zeon GP, LLC (collectively, “Zeon”), Louisville, Kentucky. The Commission scheduled the final phase of the investigations following notification of preliminary determinations by Commerce that imports of acrylonitrile-butadiene rubber from France, Mexico, and South Korea were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of March 1, 2022, (87 FR 11481). The Commission conducted its hearing on June 1, 2022. All persons who requested the opportunity were permitted to participate.

The Commission made these determinations pursuant to § 735(b) of the Act (19 U.S.C. 1673d(b)). It completed and filed its determinations in these investigations on August 1, 2022. The views of the Commission are contained in USITC Publication 5336 (August 2022), entitled Acrylonitrile-Butadiene Rubber (NBR) from France, Mexico, and South Korea: Investigation Nos. 731-TA-1567-1569 (Final).

By order of the Commission.
Issued: August 1, 2022.
Katherine Hiner,
Acting Secretary to the Commission.

[FR Doc. 2022-16752 Filed 8-3-22; 8:45 am]

BILLING CODE 7020-02-P